DEPARTMENT OF COMMERCE

National Oceanic and Atmospheric Administration

[I.D. 111500E]

NOAA’s Teacher-At-Sea Program

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before January 19, 2001.

ADDRESSES: Direct all written comments to Madeleine Clayton, Departmental Forms Clearance Officer, Department of Commerce, Room 6086, 14th and Constitution Avenue NW, Washington DC 20230 (or via the Internet at MClayton@doc.gov).

FOR FURTHER INFORMATION CONTACT: Requests for additional information or copies of the information collection instrument(s) and instructions should be directed to Judy Sohl, OMAO, MOP1, 1801 Fairview Ave East, Seattle WA 98102-3767 (phone 206-553-2633).

SUPPLEMENTARY INFORMATION:

I. Abstract

NOAA provides educators an opportunity to gain first-hand experience with field research activities by allowing them to spend up to three weeks at sea on a NOAA research vessel. Applications are necessary to select participants, and educators participating on a cruise must submit a report detailing their experiences and resulting ideas for classroom activities.

II. Method of Collection

Paper forms or reports are submitted. The forms are available over the Internet.

III. Data

OMB Number: 0648-0283.

Form Number(s): None.

Type of Review: Regular submission.

Affected Public: Individuals (teachers, educators).

Estimated Number of Respondents: 375.

Estimated Time Per Response: 1.25 hours for an application; 15 minutes for a recommendation; and 2 hours for a follow-up report.

Estimated Total Annual Burden Hours: 309.

Estimated Total Annual Cost to Public: $536.

IV. Request for Comments

Comments are invited on: (a) Whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 14, 2000
Gwellnar Banks,
Management Analyst, Office of the Chief Information Officer.

[FR Doc. 00-29641 Filed 11-17-00; 8:45 am]

BILLING CODE 3510-12-S